OFFICE OF PERSONNEL MANAGEMENT

Privacy Act of 1974; System of Records

AGENCY: Employee Services, Strategic Workforce Planning, Office of Personnel Management.

ACTION: Notice of a new system of records.

SUMMARY: In accordance with the Privacy Act of 1974, the Office of Personnel Management (OPM) proposes to establish a new OPM system of records titled “Federal Competency Assessment Records.” This system of records contains information that OPM collects, maintains, and uses in the operation of competency assessment tools, including the OPM Competency Exploration for Development and Readiness (CEDAR) tool. These records are collected and used for training and development purposes but are not to be used for employee performance ratings or for hiring and promotion decisions. This system of records will be included in the OPM's inventory of record systems.

DATES: Please submit comments on or before September 21, 2020. This new system is effective upon publication in the Federal Register, with the exception of the routine uses, which are effective September 24, 2020.

ADDRESSES: You may submit written comments by one of the following methods:

• Federal Rulemaking Portal: http://www.regulations.gov.

All submissions received must include the agency name and docket number for this Federal Register document. The general policy for comments and other submissions from members of the public is to make these submissions available for public viewing on the internet at http://www.regulations.gov as they are received without change, including any personal identifiers or contact information.

FOR FURTHER INFORMATION CONTACT: For general questions, please contact: Kelly Cowdery, Forecasting and Methods, Strategic Workforce Planning, Employee Services, Office of Personnel Management at cedar@opm.gov or 202-606-1000. For privacy questions, please contact Kellie Cosgrove Riley, Chief Privacy Officer, Office of Personnel Management at privacy@opm.gov.

SUPPLEMENTARY INFORMATION: In accordance with the Privacy Act of 1974, 5 U.S.C. 552a, the Office of Personnel Management (OPM) proposes to establish a new system of records titled “OPM/Central-22 Federal Competency Assessment Records.” This system of records is being established in order to develop and make available to Federal agencies various competency assessment tools, in part, to meet the mandates of the Program Management Improvement Accountability Act (PMIAA). The PMIAA requires that OPM conduct a competency assessment of program managers and project managers throughout the Federal government to identify competency gaps.

Competency assessment-related tools assist agencies in addressing functions of the Human Capital Framework (HCF) (5 CFR part 250(b)), and in addition to fulfilling legislative requirements of the PMIAA. The competency exploration and assessment tools were built with the intent of being used government-wide for many different occupations, in addition to meeting the program manager and project manager assessment requirements of the PMIAA. These tools are generally created and disseminated in an online format with proper security applications in place for the safety of Federal workforce data.

The use of the records in this system of records supports agencies in assessing current Federal staffing, skills, and competencies in order to focus on priority training and development areas. Such records, will help agencies to professionalize the critical workforce on an increasing basis, encouraging the application of education, training, and experience to inform critical thinking and expert analysis that will support decision-making and overcome challenges to program implementation and execution. The analysis from competency assessment tools will help to develop Federal employees via a career path that provides experience and mentorship opportunities designed to teach these skillsets.

In addition, the HCF (5 CFR part 250(b)) requires agencies to execute several functions related to workforce analysis and planning; talent management; and skill gap closure, including using the OPM-designated method to identify gaps. Furthermore, Chief Human Capital Officers are responsible for workforce assessment, strategy, and development and are entitled to data and information supporting such efforts. Tools and applications that assess competency strengths and gaps will enable the human capital management processes used to cultivate and administer the workforce. It will also help agencies remain current with research and best practices, allow for proactive responses to change, and maximize the efficiency and effectiveness of Human Resource service delivery.

OPM also has a statutory responsibility under 5 U.S.C. 1103(c) to guide, enable, and assess agency strategic human capital management processes to find best practices for assessing the management of human capital by federal agencies. The records in this system of records are necessary to administer competency assessment and exploration tools to enable individual and organizational strategies to address skill gaps and support employee development.

SYSTEM NAME AND NUMBER:

Federal Competency Assessment Records, OPM/Central-22.

SECURITY CLASSIFICATION:

Unclassified.

SYSTEM LOCATION:

Records are maintained by Strategic Workforce Planning, Employee Services, Office of Personnel Management, 1900 E Street NW, Washington, DC 20415.

SYSTEM MANAGER(S):

Manager, Forecasting and Methods, Strategic Workforce Planning, Employee Services, U.S. Office of Personnel Management, 1900 E Street NW, Washington, DC 20415, cedar@opm.gov.

AUTHORITY FOR MAINTENANCE OF THE SYSTEM:

5 CFR part 250, subpart B, establishes the Human Capital Framework (HCF), in fulfillment of OPM's responsibilities under 5 U.S.C. 1103(c) and 5 U.S.C. 1402.

PURPOSE(S) OF THE SYSTEM:

The purpose of the system is to determine competency levels to better understand employee proficiency strengths and gaps; to identify targeted training and development opportunities in order to upskill and reskill employees; to determine employees' competency strengths and areas for improvement, so that necessary training and development opportunities can be identified, and skills gaps can ultimately be closed. In addition, the system is intended to provide agencies with aggregated results of their assessments to support their competency gap analyses, which contribute important information for personnel training, and development efforts. However, the records in this system of records are not intended to be used, and may not be used, for employee performance ratings or hiring and promotion decisions.

CATEGORIES OF INDIVIDUALS COVERED BY THE SYSTEM:

Federal employees.

CATEGORIES OF RECORDS IN THE SYSTEM:

a. First and last name

b. Email address

c. Agency

d. Agency subcomponent

e. Organizational/Work component names (up to four levels of work unit information may be obtained)

f. Country

g. Duty location

h. Occupational classification or series

i. Locality pay area

j. Pay plan

k. Grade level

l. Supervisory status

m. Supervisor name

n. Professional field

o. Selected competencies

p. Supervisor proficiency level responses

q. Employee proficiency level responses

r. Calculated differences in proficiency level responses

RECORD SOURCE CATEGORIES:

Records are obtained from the supervisors and employees who complete competency assessments and surveys.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. To the Department of Justice, including Offices of the U.S. Attorneys; another Federal agency conducting litigation or in proceedings before any court, adjudicative, or administrative body; another party in litigation before a court, adjudicative, or administrative body; or to a court, adjudicative, or administrative body. Such disclosure is permitted only when it is relevant or necessary to the litigation or proceeding and one of the following is a party to the litigation or has an interest in such litigation:

(1) OPM, or any component thereof;

(2) Any employee or former employee of OPM in his or her official capacity;

(3) Any employee or former employee of OPM in his or her individual capacity where the Department of Justice or OPM has agreed to represent the employee;

(4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records; (2) OPM has determined that as a result of the suspected or confirmed breach there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when OPM determines that it is necessary to accomplish an agency function related to this system of records. Individuals provided information under this routine use are subject to the same Privacy Act requirements and limitations on disclosure as are applicable to OPM employees.

h. To Federal supervisors of employees who have provided self-entered data on individual competency proficiency levels; however, only information about the employees they supervise can be accessed and only in order to analyze their employees' information in comparison to the individual targeted and current proficiency levels as entered by the supervisor.

i. To Federal agencies whose personnel have provided information related to competency assessments so that agencies may conduct analyses and identify competency strengths and gaps, appropriately de-identified individual and aggregate level data about their agency's employees.

PRACTICES FOR STORAGE OF RECORDS:

The records in this system of records are stored electronically on OPM's production database servers, hosted at an OPM data center in Macon, GA. Access to these servers are restricted to authorized government personnel.

POLICIES AND PRACTICES FOR RETRIEVAL OF RECORDS:

Records may be retrieved by the Federal employee's name along with their agency name and government email address, the employee's direct supervisor's name, email address, or other personal identifier contained in this system of records. The records can be retrieved by a small number of personnel in the Strategic Workforce Planning office by means of secure login to the application; individual Federal employees and supervisors can also retrieve the stored records by means of a secure login in order to view their own or their employees' records.

Records can be retrieved in aggregate form by other authorized OPM personnel or specially assigned administrators in participating Federal agencies by means of a secure login.

POLICIES AND PRACTICES FOR RETENTION AND DISPOSAL OF RECORDS:

The records in this system of records are subject to General Records Schedule 2.6, Item 010, and will be retained for three years unless a business use is identified that requires a longer retention.

ADMINISTRATIVE, TECHNICAL, AND PHYSICAL SAFEGUARDS:

Records in this system are protected from unauthorized access and misuse through various administrative, technical and physical security measures. OPM security measures are in compliance with the Federal Information Security Modernization Act (Pub. L. 113-283), associated OMB policies, and applicable standards and guidance from the National Institute of Standards and Technology (NIST).

RECORD ACCESS PROCEDURES:

Supervisors and employees who complete an assessment using the competency tool will have access to the information they submitted via their own secure login to the application.

In addition, individuals seeking notification of and access to their records in this system of records may submit a request in writing to the Office of Personnel Management, Freedom of Information Act Office, 1900 E Street NW, Washington, DC 20415. Individuals must furnish the following information for their records to be located:

1. Full name.

2. Employing agency.

3. Government email address used.

4. Supervisor's name.

5. Signature.

6. The reason why the individual believes this system contains information about him/her.

7. The address to which the information should be sent.

Individuals requesting access must also comply with OPM's Privacy Act regulations regarding verification of identity and access to records (5 CFR 297).

CONTESTING RECORD PROCEDURES:

Users can contact the System Manager (listed above) to make changes.

Individuals may also request that records about them be amended by writing to the Office of Personnel Management, Freedom of Information Act Office, 1900 E Street NW, Washington, DC 20415 and furnish the following information for their records to be located:

1. Full name.

2. Employing agency.

3. Government email address used.

3. Supervisor's name.

4. Signature.

5. Precise identification of the information requested to be amended.

Individuals requesting amendment must also follow OPM's Privacy Act regulations regarding verification of identity and amendment to records (5 CFR 297).

NOTIFICATION PROCEDURES:

See “Record Access Procedure.”

EXEMPTIONS PROMULGATED FOR THE SYSTEM:

None.

HISTORY:

None.

Office of Personnel Management.
Alexys Stanley,
Regulatory Affairs Analyst.

[FR Doc. 2020-18258 Filed 8-19-20; 8:45 am]

BILLING CODE 6325-46-P